DEPARTMENT OF COMMERCE

National Oceanic and Atmospheric Administration

[RTID 0648-XC966]

Council Coordination Committee Meeting

AGENCY: National Marine Fisheries Service (NMFS), National Oceanic and Atmospheric Administration (NOAA), Commerce.

ACTION: Notice of public meeting.

SUMMARY: The Gulf of Mexico Fishery Management Council (GMFMC) will host a meeting of the Council Coordination Committee (CCC) consisting of eight Regional Fishery Management Council (RFMC) chairs, vice chairs, and executive directors and its subcommittees from May 23 to May 25, 2023. The intent of this meeting is to discuss issues of relevance to the Councils and NMFS, including issues related to the implementation of the Magnuson-Stevens Fishery Conservation and Management Reauthorization Act (MSA), other topics of concern to the RFMC, and decisions and follow-up activities.

DATES: The meeting will be held Tuesday, May 23, 2023 to Thursday, May 25, 2023. Registration for the meeting will be 1 p.m.-5 p.m., EDT on Monday, May 22, 2023. The meeting will begin at 9 a.m., EDT on Tuesday, May 23, 2023, and recess at 5:15 p.m. or when business is complete. The meeting will reconvene at 9 a.m., EDT on Wednesday, May 24, 2023, and recess at 5 p.m. or when business is complete. The meeting will reconvene on the final day at 9 a.m., EDT on Thursday, May 25, 2023, and adjourn by 12:30 p.m. or when business is complete.

ADDRESSES:

Meeting address: The meeting will take place at the Marriott Beachside Hotel, 3841 North Roosevelt Boulevard, Key West, FL 33040; telephone: (305) 296-8100. This meeting will also be broadcast via webinar/phone. Connection details and public comment instructions will be available at http://www.fisherycouncils.org/ccc-meetings/may-2023.

Council address: Gulf of Mexico Fishery Management Council, 4107 W Spruce Street, Suite 200, Tampa, FL 33607.

FOR FURTHER INFORMATION CONTACT: Dr. Carrie Simmons, Executive Director, Gulf of Mexico Fishery Management Council; telephone: (813) 348-1630.

SUPPLEMENTARY INFORMATION: The Magnuson-Stevens Fishery Conservation and Management Act (MSA) and 2007 Reauthorization Act (MSRA) established the CCC by amending section 302 (16 U.S.C. 1852) of the MSA. The committee consists of the chairs, vice chairs, and executive directors of each of the eight Regional Fishery Management Councils authorized by the MSA, or their proxies, other Council members or staff. All sessions are open to the public and time will be set aside for public comments at the end of each day and after specific sessions at the discretion of the meeting Chair. The meeting Chair will announce public comment times and instructions to provide comment at the start of each meeting day. There will be opportunities for public comments to be provided in-person and remotely via webinar. Updates to this meeting, briefing materials, public comment instructions and additional information will be posted when available at http://www.fisherycouncils.org/ccc-meetings/may-2023.

Proposed Agenda

Tuesday, May 23, 2023; 9 a.m.-5:15 p.m., EDT

1. Welcome and Introductions, Adoption of Agenda

2. NOAA Fisheries Update and FY 23/24 Priorities

3. NOAA Fisheries Science Updates

4. Gulf Council Highlights

5. Revised Draft: National Recreational Saltwater Policy

6. Budget and 2024 Outlook

7. Update on the Inflation Reduction Act

8. Climate Change and Fisheries

9. Update on Anti-harassment Policies and Training Opportunities

10. Public Comment

—Adjourn for the day

Wednesday, May 24, 2023; 9 a.m.-5 p.m., EDT

11. America the Beautiful Initiative

12. International Fisheries Issues

13. 7th Scientific Coordination Subcommittee (SCS) Report

14. Presentation on National Standard 1 Policy Technical Memo and Draft Memo

15. Communications Subcommittee Report

16. Process for Establishing Fishing Regulations in Sanctuaries

17. Public Comment

—Adjourn for the day

Thursday, May 25, 2023; 9 a.m.-12:30 p.m., EDT

18. Legislative Outlook

19. Integration of the Endangered Species Act—Magnuson-Stevens Act

20. Marine Resource Education Program

21. CCC Workgroups/Subcommittees

22. 2024 CCC Meetings

23. Other Business and Wrap-Up

—Meeting Adjourns

The timing and order in which agenda items are addressed may change as required to effectively address the issues. The CCC will meet as late as necessary to complete scheduled business.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

This meeting is physically accessible to people with disabilities. Requests for sign language interpretation or other auxiliary aids should be directed to Kathy Pereira at the Gulf Council Office (see ADDRESSES), at least 5 working days prior to the meeting.

Authority: 16 U.S.C. 1801 et seq.

Dated: April 27, 2023.
Rey Israel Marquez,
Acting Deputy Director, Office of Sustainable Fisheries, National Marine Fisheries Service.

[FR Doc. 2023-09304 Filed 5-1-23; 8:45 am]

BILLING CODE 3510-22-P